DEPARTMENT OF ENERGY

Federal Energy Regulatory Commission

[Project No. 10821-005]

Pacific Gas & Electric Company; Notice of Application Tendered for Filing With the Commission and Soliciting Additional Study Requests and Establishing Procedural Schedule for Relicensing and a Deadline for Submission of Final Amendments

Take notice that the following application has been filed with the Commission and is available for public inspection.

a. Type of Application: Subsequent License—Transmission Line Only.

b. Project No.: P-10821-005.

c. Date Filed: June 27, 2019.

d. Applicant: Pacific Gas & Electric Company (PG&E).

e. Name of Project: Camp Far West Transmission Line Project.

f. Location: The existing transmission line project, with the proposed modification, would be located in Placer and Yuba Counties, California. The project would occupy a total of 52.3 acres and include tribal land (Auburn Off-Reservation Land Trust) managed by the U.S. Department of the Interior, Bureau of Indian Affairs and federal land (Beale Air Force Base) managed by the U.S. Department of Defense.

g. Filed Pursuant to: Federal Power Act 16 U.S.C. 791 (a)-825(r).

h. Applicant Contact: Mr. Robert Donovan, Senior Transmission Planner, Pacific Gas & Electric Company, 245 Market Street, Room 1053B, Mail Code N10A, San Francisco, California 94105.

i. FERC Contact: Quinn Emmering, (202) 502-6382, quinn.emmering@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 26, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10821-005.

m. The application is not ready for environmental analysis at this time.

n. The existing Camp Far West Transmission Line Project (P-10821) is a transmission line-only project and does not generate power. The project serves as the primary transmission line for South Sutter Water District's Camp Far West Hydroelectric Project No. 2997. The currently licensed project includes a 1.9-mile-long, three-phase, 60-kilovolt (kV) transmission line extending from the powerhouse of the Camp Far West Hydroelectric Project (P-2997) in Placer County to an interconnection with PG&E's Smartville-Lincoln (formerly Smartville-Pleasant Grove) 60-kV transmission line. PG&E now proposes to connect the project's 1.9-mile-long transmission line to an existing 9-mile-long, northbound segment of the Smartville-Lincoln transmission line that connects to the Smartville-Nicholas No. 1 transmission line at Beale Air Force Base. Because the 9-mile-long northbound segment of the Smartville-Lincoln transmission line would only carrying electrons transmitted by the project, PG&E proposes to incorporate the 9-mile-segment into any subsequent license issued for the project.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

q. Procedural schedule and final amendments: The application will be processed according to the following preliminary Hydro Licensing Schedule. Revisions to the schedule will be made as appropriate.

Issue Notice of Acceptance or Deficiency Letter—August 2019

Request Additional Information (if necessary)—August 2019

Issue Acceptance Letter—November 2019

Issue Scoping Document 1 for comments—December 2019

Request Additional Information (if necessary)—February 2020

Issue Scoping Document 2—March 2020

Issue notice of ready for environmental analysis—March 2020

Commission issues EA, draft EA, or draft EIS—October 2020

Comments on EA, draft EA or draft EIS—November 2020

Commission issues final EA of final EIS—February 2021

Final amendments to the application must be filed with the Commission no later than 30 days from the issuance date of the notice of ready for environmental analysis.

Dated: July 2, 2019.
Kimberly D. Bose,
Secretary.

[FR Doc. 2019-14646 Filed 7-9-19; 8:45 am]

BILLING CODE 6717-01-P